DEPARTMENT OF ENERGY

Western Area Power Administration

Post-2009 Resource Pool—Loveland Area Projects

AGENCY: Western Area Power Administration, DOE.

ACTION: Response to letters of interest and comments on appropriate purposes for the Loveland Area Projects proposed resource pool.

SUMMARY: Western Area Power Administration (Western), a Federal power marketing agency of the Department of Energy, is publishing this response to letters of interest and comments resulting from Western's Notice of Request for Letters of Interest in the Federal Register (72 FR 34679), dated June 25, 2007. The notice provided an opportunity for potential new eligible customers to indicate an interest in receiving an allocation of Federal power, and for the public to comment on appropriate purposes for the Loveland Area Projects (LAP) Post-2009 proposed resource pool. This Federal Register notice summarizes the letters of interest and comments received by Western's Rocky Mountain Region (RMR), and Western's plans to proceed with Post-2009 resource pool allocations.

ADDRESSES: Information received in response to the aforementioned Federal Register notice (72 FR 34679), dated June 25, 2007, including comments, letters, and other supporting documents made or kept by Western on Post-2009 resource pool allocation procedures, is available for public inspection and copying at the Rocky Mountain Customer Service Region office, Western Area Power Administration, 5555 East Crossroads Boulevard, Loveland, CO 80538-8986.

FOR FURTHER INFORMATION CONTACT: Melanie Reed, Contracts and Energy Services Manager, 970-461-7229, or Susan Steshyn, Public Utilities Specialist, 970-461-7237. Written requests for information should be sent to Rocky Mountain Customer Service Region, Western Area Power Administration, Attn: J6200, P.O. Box 3700, Loveland, CO 80539-3003.

SUPPLEMENTARY INFORMATION: The Energy Planning and Management Program (Program) was developed in part to implement section 114 of the Energy Policy Act of 1992. Western published the Final Rule for the Program, 60 FR 54151, on October 20, 1995. The rule became effective on November 20, 1995. Subpart C—Power Marketing Initiative of the Program, Final Rule, 10 CFR part 905, provides for project-specific power resource pools and power allocations from these pools to eligible new preference customers and for other appropriate purposes as determined by Western. In accordance with the Program and the Loveland Area Projects Final Post-1989 Marketing Plan (Post-1989 Marketing Plan), 48 FR 38279, August 23, 1983, up to 1 percent of the existing customers' allocations will be placed in a resource pool from which power allocations to new customers, or for other appropriate purposes as determined by Western, will be made.

On June 25, 2007, Western's RMR published a Notice of Request for Letters of Interest in the Federal Register (72 FR 34679) regarding a resource pool of up to 1 percent (not to exceed 7 megawatts) of marketable resource available to new eligible preference customers as of October 1, 2009, and/or other appropriate purposes pursuant to the Program.

Western's RMR received 4 letters from potentially eligible preference customers indicating an interest in receiving an allocation from the proposed resource pool. RMR also received 2 letters commenting on the resource pool allocation policies, procedures, terms and conditions, and uses, including other appropriate purposes. These comments, Western's responses, and Western's decision on allocating the Post-2009 resource pool are summarized below.

Letters of Interest, Comments and Western's Responses

Comment: Western should implement the next resource pool using the same policies and procedures of prior resource pools.

Response: Comment has been considered in determining the Post-2009 resource pool policies and procedures.

Comment: Western should focus on allocations to preference eligible electric utilities in amounts sufficient to be meaningful to the new firm power customers. Providing small allocations to new customers will not offer sufficient benefit to new customers and works a hardship on existing firm power customers whose allocations have been reduced to create the new resource pool.

Response: Historically, Western has marketed allocations of firm power to be apportioned to eligible new preference entities in such a manner as to encourage the most widespread use in accordance with Federal Reclamation Law. Western will use general eligibility and allocation criteria to assess and determine the allocations based on the potential new customer's applicant profile data. Through a previous re-allocation process, these criteria have proven to be fair and significant enough to benefit new customers.

Comment: Western must act within existing laws and regulations in making new allocations. In no event should Western use “appropriate purposes” to attempt to legislate new policy regarding eligibility requirements for receiving Federal firm power allocations.

Response: Comment has been considered in determining the Post-2009 resource pool policies and procedures. Further, no comments were received by RMR suggesting any other appropriate uses for the Post-2009 resource pool other than providing an allocation to new preference customers.

Comment: Western should require the identical terms and conditions in new customers' contracts to those of existing firm power customers. If withdrawals are made in the future, reductions should be applied to all firm power contract holders.

Response: All of the RMR's firm electric service contracts provide for future withdrawals according to the Program. New firm electric service customers will be subject to those same terms. Thus, they will be subject to any future withdrawals to create a resource pool under the Program.

Use of the Post-2009 Resource Pool

Based on the letters of interest and the comments noted above, Western has determined the resource pool should be made available to new preference customers only and not for other appropriate purposes. Allocations to new preference customers shall be made in accordance with the Post-1989 Marketing Plan and the Program. Western intends to carry forward the key principles and the general eligibility and allocation criteria established in its Post-2004 Resource Pool procedures. Western will publish a separate Federal Register notice identifying the procedures and requesting applications from potential new eligible preference customers. Note that those who have previously expressed an interest in an allocation of LAP Federal power must submit an application to be considered for an allocation.

Review Under the National Environmental Policy Act

Western completed an environmental impact statement on the Program, pursuant to the National Environmental Policy Act of 1969 (NEPA). The Record of Decision was published in the Federal Register on October 12, 1995 (60 FR 53181). Western will comply with any additional NEPA requirements for this resource pool.

Dated: June 26, 2008.
Timothy J. Meeks,
Administrator.

[FR Doc. E8-15140 Filed 7-3-08; 8:45 am]

BILLING CODE 6450-01-P